DEPARTMENT OF LABOR

Employment and Training Administration

Workforce Investment Act: Native American Employment and Training Council

AGENCY: Employment and Training Administration, Labor.

ACTION: Notice of meeting.

SUMMARY: Pursuant to section 10(a)(2) of the Federal Advisory Committee Act (FACA) (Pub. L. 92-463), as amended, and section 166(h)(4) of the Workforce Investment Act (WIA) [29 U.S.C. 2911(h)(4)], notice is hereby given of the initial meeting of the Native American Employment and Training Council as constituted under WIA.

TIME AND DATE: The meeting will begin at 9 a.m. EST on Monday, December 4, 2000, and continue until 5 p.m. EST that day. The meeting will reconvene at 9 a.m. EST on Tuesday, December 5, 2000, and adjourn at 2:55 p.m. EST on that day. The period from 3 p.m. to 5 p.m. EST on December 4 will be reserved for participation and presentation by members of the public.

PLACE: The Monday session will be held in Room N-5437 A, B, and C, Frances Perkins Building, the U.S. Department of Labor, 200 Constitution Avenue, NW., Washington, DC 20210. The Tuesday session will be held in the Arlington Room of the Hyatt Regency Crystal City Hotel, 2799 Jefferson Davis Highway, Arlington, Virginia 22202.

STATUS: The meeting will be open to the public.

MATTERS TO BE CONSIDERED: The agenda will focus on the following topics: (1) Comments from the Department on overall employment and training issues; (2) FACA orientation for Council Members; (3) status of WIA implementation efforts; (4) discussion of WIA management issues; (5) the Council report to the Department and Congress; (6) status of technical assistance and training provision for PYs 2000 and 2001; and (7) status of the PY 2000 Partnership Plan.

FOR FURTHER INFORMATION CONTACT: James C. DeLuca, Chief, Division of Indian and Native American Programs, Office of National Programs, Employment and Training Administration, U.S. Department of Labor, Room N-4641, 200 Constitution Avenue, NW., Washington, DC 20210.

Telephone: (202) 219-8502 ext 119 (VOICE) or (202) 326-2577 (TDD) (these are not toll-free numbers).

Signed at Washington, DC, this 7th day of November, 2000.
James C. DeLuca,
Acting Director, Office of National Programs.

[FR Doc. 00-29040 Filed 11-13-00; 8:45 am]

BILLING CODE 4510-30-P